DEPARTMENT OF AGRICULTURE

Forest Service

Columbia River Gorge National Scenic Area, Oregon and Washington States; Statutory Amendments Regarding Appraisal Standards and Procedures

AGENCY: Forest Service, USDA.

ACTION: Notice.

SUMMARY: As required by the Appropriations Act for Fiscal Year 2001 for the Department of the Interior and Related Agencies, the Forest Service gives notice of the statutory amendments made to the Columbia River Gorge National Scenic Area of November 17, 1986.

Among other things, the Act authorized the Forest Service to acquire lands within the designated boundaries of the Columbia River Gorge National Scenic Area. To facilitate those acquisitions, Congress has recently amended the Act as part of the Fiscal Year 2001 appropriations act for the Forest Service (Public Law 106-291). These amendments provide special direction for the valuation of some lands being acquired by the Forest Service within Special Management Areas of the Scenic area. Generally, persons owning land within a Special Management Area as of September 1, 2000, who offer to sell their land to the federal government prior to April 1, 2001, will have their land appraised without regard to the effect of certain zoning and land use restrictions enacted pursuant to the Columbia River Gorge National Scenic Area Act. After April 1, 2001, land will be appraised considering all zoning and land use restrictions. In addition to the publication of this notice in the Federal Register, notice of these amendments is also being given via publication in newspapers of general circulation in the area and by direct mail to known landowners in the area.

ADDRESSES: For a copy of the Columbia River Gorge National Scenic Area Act and amendments, write the National Scenic Area Headquarters, Forest Service, USDA, 902 Wasco Avenue, Suite 200, Hood River, Oregon 97031.

FOR FURTHER INFORMATION CONTACT: Pam Campbell, Lands Staff Officer, National Scenic Area Headquarters, telephone: 541-386-2333.

Dated: November 28, 2000.
Nancy Graybeal,
Deputy Regional Forester.

[FR Doc. 00-30752 Filed 12-1-00; 8:45 am]

BILLING CODE 3410-11-M